ENVIRONMENTAL PROTECTION AGENCY

[OPP-66275; FRL-6487-5]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations. The companies that hold the pesticide registrations of pesticide products containing bendiocarb (2,2-dimethyl-1,3-benzodioxol-4-yl methylcarbamate) have asked EPA to cancel their registrations for these products. EPA has identified certain potential risks associated with some of the current uses of bendiocarb as well as many data gaps. Following publication of this Notice and a 30-day public comment period, EPA intends to carry out cancellation in four steps over a period of 24-months, with the residential uses posing the greatest potential exposure to children being phased out earlier than uses that present less exposure. The proposed existing stocks provisions are outlined below.

DATES: Comments must be received on or before March 3, 2000. Following public comment, EPA intends to make the cancellations effective according to the following schedule: June 30, 2000 for bendiocarb technical; October 31, 2000 for end-use products labeled for use in and around homes; and December 31, 2001 for all other products containing bendiocarb.

FOR FURTHER INFORMATION CONTACT: By mail: Diane Isbell, Special Review and Reregistration Division (7508C), Office of Pesticide Programs, Environmental Protection Agency, 401 M St., SW., Washington, DC 20460; telephone number: 703-308-8154; e-mail address: isbell.diane@epa.gov.

SUPPLEMENTARY INFORMATION:

I. General Information

A. Does This Action Apply to Me?

This action is directed to the public in general. You may potentially be affected by this action if you manufacture, sell, distribute, or use pesticide products containing the active ingredient bendiocarb. Bendiocarb is the common name for an insecticide of the carbamate class; its trade names are Ficam and Turcam. The chemical name for bendiocarb is 2,2-dimethyl-1,3-benzodioxol-4-yl methylcarbamate. AgrEvo Environmental Health and AgrEvo USA Company are the sole technical manufacturers of bendiocarb. Bendiocarb is presently registered in the United States and is used to control household, turf and ornamental plant insects, mosquitoes and fire ants. Specific uses include: household or domestic dwellings (indoor and outdoor), residential and ornamental turf, outdoor recreation areas, nonagricultural buildings and structures, eating establishments, food processing plants, hospitals, warehouses, greenhouses, ornamental plants, aircraft and buses. There are no current registered uses on food crops in the United States; however, there are tolerances for bendiocarb use on spot and/or crack and crevice treatment in food and feed handling establishments (40 CFR 180.530).

Although this action may be of particular interest to persons who produce or use pesticides, the Agency has not attempted to describe all the specific entities that may be affected by this action. If you have any questions regarding the information in this notice, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. A copy of the bendiocarb reregistration Fact Sheet is available at http://www.epa.gov/oppsrrd1/REDs/factsheets/0409fact.pdf.

2. Fax on Demand. You may request to receive a faxed copy of this document and any available information by using a faxphone to call (202) 401-0527 and selecting item number [insert item number].

3. In person. The Agency has established an official record for this action under docket control number [OPP-66275]. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is 703-305-5805.

C. How and to Whom Do I Submit Comments?

You may submit comments through the mail, in person, or electronically. To ensure proper receipt by EPA, it is imperative that you identify docket control number [OPP-66275] in the subject line on the first page of your response.

1. By mail. Submit your comments to: Public Information and Records Integrity Branch (PIRIB), Information Resources and Services Division (7502C), Office of Pesticide Programs (OPP), Environmental Protection Agency, 401 M St., SW., Washington, DC 20460.

2. In person or by courier. Deliver your comments to: Public Information and Records Integrity Branch (PIRIB), Information Resources and Services Division (7502C), Office of Pesticide Programs (OPP), Environmental Protection Agency, Rm. 119, Crystal Mall 2, 1921 Jefferson Davis Highway, Arlington, VA. The PIRIB is open from 8 a.m. to 4 p.m., Monday through Friday, excluding legal holidays. The PIRIB telephone number is 703-305-5805.

3. Electronically. You may submit your comments electronically by E-mail to: “opp-docket@epa.gov,” or you can submit a computer disk as described above. Do not submit any information electronically that you consider to be CBI. Avoid the use of special characters and any form of encryption. Electronic submissions will be accepted in Wordperfect 6.1/8.0 or ASCII file format. All comments in electronic form must be identified by the docket control number [OPP-66275]. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

• Explain your views/interests as clearly as possible.

• Describe any assumptions that you used.

• Provide copies of any technical information and/or data you used that support your views.

• Make sure to submit your comments by the deadline in this notice.

• To ensure proper receipt by EPA, be sure to identify the docket control number assigned to this action in the subject line on the first page of your response. You may also provide the name, date, and Federal Register citation.

II. What Action Is the Agency Taking?

This notice announces receipt by the Agency of applications from registrants to cancel 23 pesticide products registered under section 3 of FIFRA. These registrations are listed in sequence by registration number in Table 1, below. The Agency will proceed with the cancellation of the bendiocarb products listed in Table 1, according to the scheduled dates unless the request for voluntary cancellation is withdrawn by AgrEvo Environmental Health and AgrEvo USA Company, a registration is transferred (under the conditions explained below), or substantive comments are received from the public which cause the Agency to reconsider its approach to canceling the AgrEvo bendiocarb registrations. Once an active ingredient is canceled, any person wishing to bring the pesticide back on the market would need to apply to EPA for a “new chemical” registration. Such a registration cannot be approved until all applicable data requirements are satisfied.

Table 1.—Bendiocarb Registrations with Pending Requests for Cancellation
Registration No. | Product name | Intended Effective Date for Cancellation
10370-182 | Bendiocarb 20% Wettable Powder | Immediately following comment period
10370-183 | Bendiocarb 76% Wettable Powder | Immediately following comment period
10370-185 | Bendiocarb Technical 95% | Immediately following comment period
10370-304 | Turcam 2.5G Insect Control | Immediately following comment period
4816-703 | Wasp and Hornet Killer No. 3 | 10/31/2000
4816-704 | Pyrenone Bendiocarb; Roach & Ant Spray | 10/31/2000
4816-711 | Bendiocarb 2.4; Butacide 12.0 Manufacturing Concentrate | 10/31/2000
45639-1 | Ficam W | 10/31/2000
45639-2 | Bendiocarb Wettable Powder | 10/31/2000
45639-3 | Ficam D | 10/31/2000
45639-6 | Bendiocarb Technical | 6/30/2000
45639-9 | Bendiocarb 1% Dust | 10/31/2000
45639-10 | Bendiocarb 1% Homeowner Dust | 10/31/2000
45639-59 | Turcam Insecitcide | 12/31/2001
45639-64 | Bendiocarb 20% Homeowner Wettable Powder | 10/31/2000
45639-66 | Ficam Plus | 10/31/2000
45639-100 | Turcam 2½ G | 12/31/2001
45639-102 | Ficam ULV Solution | 12/31/2001
45639-139 | Bendiocarb 1½ G | 10/31/2000
45639-148 | Turcam Fertilizer | 12/31/2001
45639-150 | Ficam 2½ G | 10/31/2000
45639-151 | Turcam Fertilizer GC | 12/31/2001
45639-152 | Ficam Plus R/S | 10/31/2000

The following Table 2 includes the names and addresses of record for all registrants of the products in Table 1, in sequence by EPA company number:

Table 2.— Registrants Requesting Voluntary Cancellation
EPA Company No. | Company name and address
4816 | AgrEvo Environmental Health, 95 Chestnut Ridge Road, Montvale, NJ 07645
10370 | AgrEvo Environmental Health, 95 Chestnut Ridge Road Montvale, NJ 07645
45639 | AgrEvo USA Company, Little Falls Centre One, 2711 Centerville Road, Wilmington, DE 19808

The Agency is providing a 30-day comment period, during which the public may submit comments concerning this action. If any person notifies the Agency during the 30-day comment period of an agreement with AgrEvo to transfer one or more of AgrEvo's registrations, EPA will not issue the cancellation order for the affected product(s) provided that the following conditions are met. Within 30 days of notifying the Agency of its intention to transfer a registration, a request for transfer of registration must be submitted to the Agency in accordance with 40 CFR 152.135. If the Agency approves the transfer, the transferee will be regarded as the registrant for all purposes under FIFRA. The new registrant or transferee would be responsible for ensuring all data requirements are satisfied including all outstanding requirements consistent with established deadlines (some of which are approaching the required due date). It should be noted that completion of outstanding data does not in itself guarantee eligibility for reregistration. EPA must also make the relevant regulatory findings required by FIFRA.

III. What is the Agency's Authority for Taking This Action?

Section 6(f)(1)(A) of FIFRA provides that a registrant of a pesticide product may at any time request that any of its pesticide registrations be canceled. FIFRA further provides that, before acting on the request, EPA must publish a notice of receipt of any such request in the Federal Register .

Section 6(f)(1)(B) of FIFRA requires that EPA provide a 30-day period in which the public may comment before the Agency may act on the request for voluntary cancellation. In the case of minor agricultural uses, Section 6(f)(1)(C) of FIFRA provides for a 180-day comment period under certain circumstances. The registrants of bendiocarb have requested that EPA provide 30-day's comment on this request. Accordingly, pursuant to section 6(f)(1)(C)(ii) of FIFRA, EPA is waiving the 180-day comment period, to the extent it applies to this action, and will provide interested parties 30 days to comment on the action.

On August 18, 1999, AgrEvo Environmental Health transmitted a letter to the Agency requesting a phased cancellation of all their bendiocarb product registrations. This letter was in response to the Agency's work on the Reregistration Eligibility Decision for bendiocarb, during which the Agency examined potential risk concerns and identified additional data requirements. The registrant decided to voluntarily cancel bendiocarb products rather than generate the additional data that would be required to reregister their bendiocarb products. The registrant has agreed to limit the production of bendiocarb technical for the year 2000 (i.e., from January 1-June 30, 2000) to 95,000 pounds of active ingredient. This limit is based on the average annual production for the last 5 years.

IV. Procedures for Withdrawal of Request

Registrants who choose to withdraw a request for cancellation must submit such withdrawal in writing to the person listed under FOR FURTHER INFORMATION CONTACT, postmarked before March 3, 2000. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation orders for the individual products subject to this action. In all cases, product-specific disposition dates will be given in the cancellation orders.

Existing stocks are those stocks of registered pesticide products which are currently in the United States and which have been packaged, labeled, and released for shipment prior to the effective date of the cancellation action.

AgrEvo has requested, and EPA intends to approve the following proposal for disposition of existing stocks of bendiocarb products unless the provisions of an earlier order apply:

1. Four product registrations will be canceled immediately following the comment period, because these products have not been marketed in several years. These are:

• Bendiocarb 20% Wettable Powder, EPA Reg. No. 10370-182;

• Bendiocarb 76% Wettable Powder, EPA Reg. No. 10370-183;

• Bendiocarb Technical 95%, EPA Reg. No. 10370-185

• Turcam 2.5G Insect Control, EPA Reg. No. 10370-304.

The registrants may not sell or distribute stocks of this product after the date specified.

2. Bendiocarb technical, EPA Reg. No. 45639-6, will be canceled on June 30, 2000. The registrants may not sell or distribute stocks of this product after the date specified.

3. Bendiocarb end-use products for homeowner and pest control operator use, labeled for indoor or outdoor residential uses (see Table 1) can be sold or distributed by the registrant until October 31, 2000. Pursuant to this proposal, after October 31, 2000, the registrants will not be permitted to sell any of these products.

4. All other bendiocarb end-use products, i.e., those with only non-residential uses (see Table 1), can be sold or distributed by the registrant until December 31, 2001. All bendiocarb products will be canceled as of December 31, 2001.

Persons other than the registrants may distribute, sell or use existing stocks of canceled products listed in paragraphs 1 through 4 above until stocks are depleted. All use of existing stocks of canceled pesticides must be consistent with all EPA-approved labeling for the product.

Under FIFRA section 6(a)(1), EPA may permit the continued sale and use of a canceled pesticide if such sale or use “is not inconsistent with the purposes of this Act.” For bendiocarb, the Agency has concluded that the limited short-term continued use of this pesticide, as outlined in this notice, is the most efficient means of addressing both potential risk concerns and providing for the orderly disposition of existing stocks. The Agency's conclusion is based in part on the fact that AgrEvo has agreed to cancel the bendiocarb products used in and around the home (and thus posing the greatest exposure to children) relatively soon, i.e. by October 31, 2000.

VI. Notification of Intent To Revoke Tolerances

This Notice also announces that the Agency intends to propose revocation of the related tolerances following the cancellation of the uses listed in this Notice unless there is a request to modify or maintain it as an import tolerance. There are no current registered uses for bendiocarb on food crops in the United States; however, there are non-numerical tolerances for its use on spot and/or crack and crevice treatment in food and feed handling establishments (40 CFR 180.530). EPA's reregistration eligibility assessment indicated that substantial additional data would be required to support continued use of bendiocarb on all types of food- and feed-handling establishments, except the food service category of food handling establishments—the only use supported by current data. Also, finite (numerical) tolerances would have to be proposed.

The Agency is willing to consider requests to modify or maintain a tolerance following the cancellation of the accompanying registration. Such request should be sent to the person listed in the FOR FURTHER INFORMATION CONTACT above. If EPA receives a request to modify or maintain a tolerance in response to this Notice, the Agency will issue a notice under section 408(f) of FFDCA informing the public of the data required to support the tolerance and stating the time period for submitting the required data. Regardless of whether a tolerance applies solely to domestic food uses or solely to imported foods, the same technical chemistry and toxicology data are required to support tolerances under FFDCA section 408. For pesticide chemicals used in or on food, EPA requires residue chemistry data that are representative of growing conditions in exporting countries in the same manner that the EPA requires representative residue chemistry data from different U.S. regions to support domestic use of the pesticide and the tolerance. Persons supporting the maintenance or modification of tolerances to cover residues in or on imported food have the burden of demonstrating the relevance of any existing domestic data to foreign growing or usage conditions.

If EPA does not receive any indication of a need to retain a tolerance following the cancellation of the registered food use, the Agency will publish in the Federal Register a notice proposing to revoke the tolerance. That notice will again give interested parties the opportunity to come forward to support the maintenance of the tolerance.

List of Subjects

Environmental protection, Administrative practice and procedure, Pesticides and pests.

Dated: January 17, 2000.
Lois A. Rossi,
Director, Special Review and Reregistration Division, Office of Pesticide Programs.

[FR Doc. 00-2283 Filed 2-1-00; 8:45 am]

BILLING CODE 6560-50-F